DEPARTMENT OF HEALTH AND HUMAN SERVICES

[Document Identifier: OS-0945-0002]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 24, 2019.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Health Information Privacy and Civil Rights/Conscience and Religious Freedom Discrimination Complaint.

Type of Collection: Revision.

OMB No. 0945-0002.

Abstract: The Office for Civil Rights is seeking a revision on an approval for a 3-year clearance on a previous collection. Individuals may file written or electronic complaints with the Office for Civil Rights when they believe they have been discriminated against by programs or entities that receive Federal financial assistance from the Health and Human Service or if they believe that their right to the privacy of protected health information freedom has been violated. Annual Number of Respondents frequency of submission is record keeping and reporting on occasion.

Estimated Annualized Burden Table
Written forms/ electronic forms | Type of respondent | Number of respondents | Number of responses per respondent | Average burden hours per response | Total burden hours
Civil Rights/Conscience Religious Freedom Discrimination Complaint | Individuals or households, Not-for-profit institutions | 8433 | 1 | 45/60 | 6325
Health Information Privacy Complaint | Individuals or households, Not-for-profit institutions | 25,299 | 1 | 45/60 | 18,974
Total |  |  |  |  | 25,299

Terry Clark,
Office of the Secretary, Paperwork Reduction Act Reports Clearance Officer.

[FR Doc. 2019-13323 Filed 6-21-19; 8:45 am]

BILLING CODE 4153-01-P